DEPARTMENT OF DEFENSE

Office of the Secretary

Membership of the Performance Review Board

AGENCY: Office of the Secretary of Defense (OSD), Department of Defense (DoD).

ACTION: Notice of board membership.

SUMMARY: This notice announces the appointment of the Department of War (DoW), Office of the Secretary of War (OSW), Joint Staff, Department of War (DoW) Agencies, and DoW Field Activities, Performance Review Board (PRB) members, to include the U.S. Court of Appeals for the Armed Forces. The PRB shall provide fair and impartial review of Senior Executive Service and Senior Professional performance appraisals and make recommendations regarding performance ratings and performance awards to the Director of Administration and Management, OSW.

DATES: The board membership is applicable beginning on September 30, 2025.

FOR FURTHER INFORMATION CONTACT: Ms. Laura E. Devlin Dominguez, Assistant Director for Office of the Secretary of War Senior Executive Management Office, Washington Headquarters Service, Department of War, (703) 693-8373.

SUPPLEMENTARY INFORMATION: The publication of PRB membership is required by 5 U.S.C. 4314(c)(4). In accordance with 5 U.S.C. 4314(c)(4), the following executives are appointed to the Office of the Secretary of War PRB with specific PRB panel assignments being made from this group. Executives listed will serve a one-year renewable term, beginning September 30, 2025.

Office of the Secretary of War

Appointing Authority—Honorable Stephen A. Feinberg, Deputy Secretary of War

Principal Executive Representative—Mr. Robert G. Salesses

Chairperson—Mr. James R. Sapp and Mr. John M. Tenaglia

PRB Panel Members

Robert E. Thompson

Yong “Eric” H. Kim

Melissa A. Sikora

Susan J. Goodyear

Darren L. Irvine

Leonid A. Godunov

Krystyna M.A. Kolesar

Karen M. Davis

Andrew L. Winternitz

Christine M. Condon

Tucker D. Hughes

Jaques Reifman

Robert E. Irie

Lee A. Kelley

Teresa D. Kless

Vernita D. Harris

Darrell W. Landreaux

Linda K. Palmer

Rosalie W. Tinsley

Vincent L. Fisher

Raju H. Shah

David T. Beckwith

Scott F. Mann

Joni H. Youngberg

Brent C. Harvey

Michael R. Dean

David W. McNeil

PRB Panel Members—Alternates

Scott W. Bauer

Dennis S. Perry

Jennifer L. Quinones

Dated: November 14, 2025.
Aaron T. Siegel,
Alternate OSD Federal Register Liaison Officer, Department of Defense.

[FR Doc. 2025-20224 Filed 11-17-25; 8:45 am]

BILLING CODE 6001-FR-P